DEPARTMENT OF TRANSPORTATION

Federal Aviation Administration

14 CFR Part 39

[Docket No. FAA-2014-0776; Directorate Identifier 2013-NM-240-AD; Amendment 39-18033; AD 2014-23-17]

RIN 2120-AA64

Airworthiness Directives; Airbus Airplanes

AGENCY: Federal Aviation Administration (FAA), Department of Transportation (DOT).

ACTION: Final rule; request for comments.

SUMMARY: We are superseding Airworthiness Directive (AD) 2013-20-06 for all Airbus Model A340-211, -212, -213, -311, -312, -313, -541, and -642 airplanes. AD 2013-20-06 required revising the maintenance program to incorporate certain maintenance requirements and airworthiness limitations. This new AD requires revising the maintenance or inspection program to incorporate certain other maintenance requirements and airworthiness limitations. This AD was prompted by a determination that existing maintenance requirements are not adequate to address the aging effects of aircraft systems. We are issuing this AD to address the aging effects of aircraft systems. Such aging effects could change the characteristics of systems' life-limited components leading to an increased potential for failure, which, in isolation or in combination with one or more other specific failures or events, could result in failure of certain life limited parts, which could reduce the structural integrity or the controllability of the airplane.

DATES: This AD becomes effective December 17, 2014.

The Director of the Federal Register approved the incorporation by reference of a certain publication listed in this AD as of December 17, 2014.

We must receive comments on this AD by January 16, 2015.

ADDRESSES: You may send comments by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC, between 9 a.m. and 5 p.m., Monday through Friday, except Federal holidays.

For service information identified in this AD, contact Airbus SAS, Airworthiness Office—EAL, 1 Rond Point Maurice Bellonte, 31707 Blagnac Cedex, France; telephone +33 5 61 93 36 96; fax +33 5 61 93 45 80; email airworthiness.A330-A340@airbus.com; Internet http://www.airbus.com. You may view this referenced service information at the FAA, Transport Airplane Directorate, 1601 Lind Avenue SW., Renton, WA. For information on the availability of this material at the FAA, call 425-227-1221.

Examining the AD Docket

You may examine the AD docket on the Internet at http://www.regulations.gov by searching for and locating Docket No. FAA-2014-0776; or in person at the Docket Operations office between 9 a.m. and 5 p.m., Monday through Friday, except Federal holidays. The AD docket contains this AD, the regulatory evaluation, any comments received, and other information. The street address for the Docket Operations office (telephone 800-647-5527) is in the ADDRESSES section. Comments will be available in the AD docket shortly after receipt.

FOR FURTHER INFORMATION CONTACT: Vladimir Ulyanov, Aerospace Engineer, International Branch, ANM-116, Transport Airplane Directorate, FAA, 1601 Lind Avenue SW., Renton, WA 98057-3356; telephone 425-227-1138; fax 425-227-1149.

SUPPLEMENTARY INFORMATION:

Discussion

On September 17, 2013, we issued AD 2013-20-06, Amendment 39-17612 (78 FR 64156, October 28, 2013). AD 2013-20-06 applied to all Airbus Model A340-211, -212, -213, -311, -312, -313, -541, and -642 airplanes. AD 2013-20-06 was prompted by a determination that existing maintenance requirements were are not adequate to address the unsafe condition. AD 2013-20-06 required revising the maintenance program to incorporate certain maintenance requirements and airworthiness limitations. We issued AD 2013-20-06 to address the aging effects of aircraft systems. Such aging effects could change the characteristics of systems life-limited components leading to an increased potential for failure, which, in isolation or in combination with one or more other specific failures or events, could result in failure of certain life limited parts, which could reduce the structural integrity or the controllability of the airplane.

Since we issued AD 2013-20-06, Amendment 39-17612 (78 FR 64156, October 28, 2013), we determined that existing maintenance requirements are not adequate to address the aging effects of aircraft systems.

The European Aviation Safety Agency (EASA), which is the Technical Agent for the Member States of the European Community, has issued EASA Airworthiness Directive 2013-0269, dated November 7, 2013 (referred to after this as the Mandatory Continuing Airworthiness Information, or “the MCAI”), to correct an unsafe condition all Airbus Model A340-211, -212, -213, -311, -312, -313, -541, and -642 airplanes. The MCAI states:

The airworthiness limitations for Airbus aeroplanes are currently published in Airworthiness Limitations Section (ALS) documents.

The airworthiness limitations applicable to the Ageing Systems Maintenance (ASM) are given in Airbus A340 ALS Part 4, which is approved by EASA.

Revision 03 of Airbus A340 ALS Part 4 introduces more restrictive maintenance requirements and/or airworthiness limitations. Failure to comply with these instructions could result in an unsafe condition.

For the reason described above, this [EASA] AD retains the requirements of EASA AD 2012-0021 (http://ad.easa.europa.eu/ad/2012-0021) [which corresponds to FAA AD 2013-20-06, Amendment 39-17612 (78 FR 64156, October 28, 2013)], which is superseded, and requires accomplishment of the actions specified in Airbus A340 ALS Part 4 at Revision 03.

In addition, this [EASA] AD also supersedes EASA AD 2008-0026 (http://ad.easa.europa.eu/ad/2008-0026) [which corresponds to FAA AD 2010-15-02, Amendment 39-16368 (75 FR 42589, July 22, 2010)] and EASA AD 2008-0160 (http://ad.easa.europa.eu/ad/2008-0160) [which corresponds to FAA AD 2009-18-20, Amendment 39-16017 (74 FR 46313, September 9, 2009)], whose requirements applicable to A340 aeroplanes have been transferred into Airbus A340 ALS Part 4.

The unsafe condition is the aging effects of aircraft systems. Such aging effects could change the characteristics of systems' life-limited components leading to an increased potential for failure, which, in isolation or in combination with one or more other specific failures or events, could result in failure of certain life limited parts, which could reduce the structural integrity or the controllability of the airplane. You may examine the MCAI on the Internet at http://www.regulations.gov by searching for and locating Docket No. FAA-2014-0776.

Relevant Service Information

Airbus has issued A340 Airworthiness Limitations Section (ALS) Part 4—Ageing Systems Maintenance, Revision 03, dated November 15, 2012. The actions described in this service information are intended to correct the unsafe condition identified in the MCAI.

FAA's Determination and Requirements of This AD

This product has been approved by the aviation authority of another country, and is approved for operation in the United States. Pursuant to our bilateral agreement with the State of Design Authority, we have been notified of the unsafe condition described in the MCAI and service information referenced above. We are issuing this AD because we evaluated all pertinent information and determined the unsafe condition exists and is likely to exist or develop on other products of the same type design.

This AD requires revisions to certain operator maintenance documents to include new inspections. Compliance with these inspections is required by 14 CFR 91.403(c). For airplanes that have been previously modified, altered, or repaired in the areas addressed by these inspections, the operator may not be able to accomplish the inspections described in the revisions. In this situation, to comply with 14 CFR 91.403(c), the operator must request approval for an alternative method of compliance according to paragraph (k) of this AD. The request should include a description of changes to the required inspections that will ensure the continued operational safety of the airplane.

There are no products of this type currently registered in the United States. However, this rule is necessary to ensure that the described unsafe condition is addressed if any of these products are placed on the U.S. Register in the future.

Differences Between This AD and MCAI or Service Information

This AD incorporates Airbus A340 ALS Part 4—Ageing Systems Maintenance, Revision 03, dated November 15, 2012, including the compliance times for the actions. However, the compliance times for certain initial actions are different from those specified in Airbus A340 ALS Part 4—Ageing Systems Maintenance, Revision 03, dated November 15, 2012, because the actions and associated compliance times were required by AD 2009-18-20, Amendment 39-16017 (74 FR 46313, September 9, 2009). Therefore, the initial compliance time for these actions is relative to the effective date of the applicable superseded AD, as specified in paragraph (h) of this AD.

The MCAI specifies that if there are findings from the ALS inspection tasks, corrective actions must be accomplished in accordance with Airbus maintenance documentation. However, this AD does not include that requirement. Operators of U.S.-registered airplanes are required by general airworthiness and operational regulations to perform maintenance using methods that are acceptable to the FAA. We consider those methods to be adequate to address any corrective actions necessitated by the findings of ALS inspections required by this AD.

Related Rulemaking

Certain maintenance requirements specified in A340 ALS Part 4—Ageing Systems Maintenance, Revision 03, dated November 15, 2012, are already required by other ADs. Therefore, accomplishing the actions required by this AD will terminate the requirements of the following ADs for Model A340 airplanes.

• AD 2003-14-11, Amendment 39-13230 (68 FR 41521, July 14, 2003).

• AD 2004-11-08, Amendment 39-13654 (69 FR 31874, June 8, 2004).

• AD 2004-13-25, Amendment 39-13707 (69 FR 41394, July 9, 2004).

• AD 2004-18-14, Amendment 39-13793 (69 FR 55326, September 14, 2004).

• AD 2007-05-12, Amendment 39-14973 (72 FR 10057, March 7, 2007).

• AD 2008-06-07, Amendment 39-15419 (73 FR 13103, March 12, 2008; corrected April 15, 2008 (73 FR 20367)).

• AD 2012-04-07, Amendment 39-16963 (77 FR 12989, March 5, 2012).

• AD 2009-18-20, Amendment 39-16017 (74 FR 46313, September 9, 2009), which requires the identification and modification of certain standard spoiler servo-controls; and

• AD 2010-15-02, Amendment 39-16368 (75 FR 42589, July 22, 2010), which requires various detailed visual inspections for corrosion and wear detection of the input gear box and down drive shafts of all wing flap tracks and corrective actions.

FAA's Determination of the Effective Date

Since there are currently no domestic operators of this product, notice and opportunity for public comment before issuing this AD are unnecessary.

Comments Invited

This AD is a final rule that involves requirements affecting flight safety, and we did not precede it by notice and opportunity for public comment. We invite you to send any written relevant data, views, or arguments about this AD. Send your comments to an address listed under the ADDRESSES section. Include “Docket No. FAA-2014-0776; Directorate Identifier 2013-NM-240-AD” at the beginning of your comments. We specifically invite comments on the overall regulatory, economic, environmental, and energy aspects of this AD. We will consider all comments received by the closing date and may amend this AD because of those comments.

We will post all comments we receive, without change, to http://www.regulations.gov, including any personal information you provide. We will also post a report summarizing each substantive verbal contact we receive about this AD.

Costs of Compliance

We estimate that this AD affects 0 airplanes of U.S. registry.

We estimate that it will take about 1 work-hour per product to comply with the basic requirements of this AD. The average labor rate is $85 per work-hour. Required parts will cost $0 per product. Based on these figures, we estimate the cost of this AD on U.S. operators to be $85 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing airworthiness directive (AD) 2013-20-06, Amendment 39-17612 (78 FR 64156, October 28, 2013), and adding the following new AD:

2014-23-17 Airbus: Amendment 39-18033. Docket No. FAA-2014-0776; Directorate Identifier 2013-NM-240-AD.

(a) Effective Date

This AD becomes effective December 17, 2014.

(b) Affected ADs

(1) This AD replaces AD 2013-20-06, Amendment 39-17612 (78 FR 64156, October 28, 2013).

(2) This AD affects the requirements of the ADs specified in paragraphs (j)(1) through (j)(9) of this AD.

(c) Applicability

This AD applies to Airbus Model A340-211, -212, -213, -311, -312, -313, -541, and -642 airplanes, certificated in any category, all manufacturer serial numbers.

(d) Subject

Air Transport Association (ATA) of America Code 05, Time Limits/Maintenance Checks.

(e) Reason

This AD was prompted by a determination that existing maintenance requirements are not adequate to address the aging effects of aircraft systems. We are issuing this AD to address the aging effects of aircraft systems. Such aging effects could change the characteristics of systems life-limited components leading to an increased potential for failure, which, in isolation or in combination with one or more other specific failures or events, could result in failure of certain life limited parts, which could reduce the structural integrity or the controllability of the airplane.

(f) Compliance

Comply with this AD within the compliance times specified, unless already done.

(g) Maintenance/Inspection Program Revision

Within 6 months after the effective date of this AD, revise the maintenance program or inspection program, as applicable, by incorporating Airbus A340 Airworthiness Limitations Section (ALS) Part 4—Ageing Systems Maintenance, Revision 03, dated November 15, 2012. The initial compliance times for the actions are within the applicable compliance time specified in the Record of Revisions page of Airbus A340 ALS Part 4—Ageing Systems Maintenance, Revision 03, dated November 15, 2012, or within 6 months after the effective date of this AD, whichever is later, except as required by paragraph (h) of this AD.

(h) Exceptions to Initial Compliance Times

(1) Where Airbus A340 ALS Part 4—Ageing Systems Maintenance, Revision 03, dated November 15, 2012, defines a calendar compliance time for the modification of spoiler servo-controls having part numbers MZ4339390-01X; MZ4306000-01X; MZ4339390-02X; MZ4306000-02X; MZ4339390-10X; and MZ4306000-10X as “March 5, 2010,” the calendar compliance time is April 14, 2011 (18 months after October 14, 2009 (the effective date of AD 2009-18-20, Amendment 39-16017 (74 FR 46313, September 9, 2009)).

(2) Where Note 6 of “ATA 27-64, Flight Control—Spoiler Hydraulic Actuation, (Fig. 09),” of Sub-part 4-2-1, Life Limits, of Sub-part 4-2, Systems Life—Limited Components, of the Airbus A340 ALS, Part 4—Ageing Systems Maintenance, Revision 03, dated November 15, 2012, defines a calendar date of “September 5, 2008,” as a date for the determination of accumulated flight cycles since the aircraft's initial entry into service, the calendar compliance time is October 14, 2009 (the effective date of AD 2009-18-20, Amendment 39-16017 (74 FR 46313, September 9, 2009)).

(3) Where Note 6 of “ATA 27-64 Flight Control—Spoiler Hydraulic Actuation, (Fig. 09),” of Sub-part 4-2-1, Life Limits, of Sub-part 4-2, Systems Life—Limited Components, of the Airbus A340 ALS, Part 4—Ageing Systems Maintenance, Revision 03, dated November 15, 2012, defines a calendar compliance time of “March 5, 2010,” for the modification of affected servo-controls, the calendar compliance time is April 14, 2011 (18 months after October 14, 2009 (the effective date of AD 2009-18-20, Amendment 39-16017 (74 FR 46313, September 9, 2009)).

(i) Alternative Actions or Intervals

After accomplishing the revision required by paragraph (g) of this AD, no alternative actions (e.g., inspections) or intervals may be used unless the actions or intervals are approved as an alternative method of compliance (AMOC) in accordance with the procedures specified in paragraph (k)(1) of this AD.

(j) Terminating Action for Other ADs

Accomplishing the revision of the maintenance program and complying with all applicable instructions and airworthiness limitations required by paragraph (g) of this AD terminates the requirements of the ADs specified in paragraphs (j)(1) through (j)(9) of this AD for Model A340 airplanes only.

(1) AD 2003-14-11, Amendment 39-13230 (68 FR 41521, July 14, 2003).

(2) AD 2004-11-08, Amendment 39-13654 (69 FR 31874, June 8, 2004).

(3) AD 2004-13-25, Amendment 39-13707 (69 FR 41394, July 9, 2004).

(4) AD 2004-18-14, Amendment 39-13793 (69 FR 55326, September 14, 2004).

(5) AD 2007-05-12, Amendment 39-14973 (72 FR 10057, March 7, 2007).

(6) AD 2008-06-07, Amendment 39-15419 (73 FR 13103, March 12, 2008; corrected April 15, 2008 (73 FR 20367)).

(7) AD 2009-18-20, Amendment 39-16017 (74 FR 46313, September 9, 2009).

(8) AD 2010-15-02, Amendment 39-16368 (75 FR 42589, July 22, 2010).

(9) AD 2012-04-07, Amendment 39-16963 (77 FR 12989, March 5, 2012).

(k) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Vladimir Ulyanov, Aerospace Engineer, International Branch, ANM-116, Transport Airplane Directorate, FAA, 1601 Lind Avenue SW., Renton, WA 98057-3356; telephone 425-227-1138; fax 425-227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Contacting the Manufacturer: As of the effective date of this AD, for any requirement in this AD to obtain corrective actions from a manufacturer, the action must be accomplished using a method approved by the Manager, International Branch, ANM-116, Transport Airplane Directorate, FAA; or the European Aviation Safety Agency (EASA); or Airbus's EASA Design Organization Approval (DOA). If approved by the DOA, the approval must include the DOA-authorized signature.

(l) Related Information

Refer to Mandatory Continuing Airworthiness Information (MCAI) European Aviation Safety Agency Airworthiness Directive 2013-0269, dated November 7, 2013, for related information. You may examine the MCAI on the Internet at http://www.regulations.gov by searching for and locating Docket No. FAA-2014-0776.

(m) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) Airbus A340 Airworthiness Limitations Section (ALS) Part 4—Ageing Systems Maintenance, Revision 03, dated November 15, 2012. The revision date of this document is not identified on the title page of this document. Also, the revision level of this document is identified on only the title page and in the Record of Revisions section of this document.

(ii) Reserved.

(3) For service information identified in this AD, contact Airbus SAS, Airworthiness Office—EAL, 1 Rond Point Maurice Bellonte, 31707 Blagnac Cedex, France; telephone +33 5 61 93 36 96; fax +33 5 61 93 45 80; email airworthiness.A330-A340@airbus.com; Internet http://www.airbus.com.

(4) You may view this service information at the FAA, Transport Airplane Directorate, 1601 Lind Avenue SW., Renton, WA. For information on the availability of this material at the FAA, call 425-227-1221.

(5) You may view this service information that is incorporated by reference at the National Archives and Records Administration (NARA). For information on the availability of this material at NARA, call 202-741-6030, or go to: http://www.archives.gov/federal-register/cfr/ibr-locations.html.

Issued in Renton, Washington, on November 13, 2014.
Jeffrey E. Duven,
Manager, Transport Airplane Directorate, Aircraft Certification Service.

[FR Doc. 2014-27632 Filed 12-1-14; 8:45 am]

BILLING CODE 4910-13-P